DEPARTMENT OF THE INTERIOR

Fish and Wildlife Service

Klamath River Basin Fisheries Task Force and Klamath Fishery Management Council

AGENCY: Fish and Wildlife Service, Interior.

ACTION: Notice of meeting.

SUMMARY: We, the Fish and Wildlife Service, announce a joint meeting of the Klamath River Basin Fisheries Task Force and Klamath Fishery Management Council. The meeting is open to the public. The purpose of the meeting is to allow affected interests to continue providing recommendations to us on implementation of our program to restore anadromous fisheries, including salmon and steelhead, in the Klamath River in California and Oregon.

DATES: The meeting will be from 9 a.m. to 5 p.m. on June 21, 2006, and from 8 a.m. to 5 p.m. on June 22, 2006.

ADDRESSES: The meeting will be held at the College of the Siskiyous, 2001 Campus Drive, Yreka, California.

FOR FURTHER INFORMATION CONTACT: Phil Detrich, Field Supervisor, U.S. Fish and Wildlife Service, 1829 South Oregon Street, Yreka, California 96097, telephone (530) 842-5763.

SUPPLEMENTARY INFORMATION: Under section 10(a)(2) of the Federal Advisory Committee Act (5 U.S.C. App. I), we announce a meeting of the Klamath River Fisheries Task Force and Klamath Fishery Management Council. These Federal advisory committees were established under the Klamath River Basin Fishery Restoration Act (16 U.S.C. 460ss et seq.).

For background information on the Klamath River Basin Fisheries Task Force, please refer to the Federal Register notice of the initial meeting (July 8, 1987, 52 FR 25639). For background information on the Council, please refer to the Federal Register notice of the initial meeting (July 8, 1987, 52 FR 25639).

Dated: May 18, 2006.
John Engbring,
Acting California/Nevada Operations Manager, California/Nevada Office, Fish and Wildlife Service.

[FR Doc. E6-7910 Filed 5-23-06; 8:45 am]

BILLING CODE 4310-55-P